DEPARTMENT OF TRANSPORTATION

Federal Transit Administration

Preparation of Environmental Impact Statement for Transit Improvements in the Southeast-Universities-Hobby Corridor Extending from Downtown Houston, Harris County to the Vicinity of Hobby Airport in Southeast Harris County, Texas

AGENCY: Federal Transit Administration, DOT.

ACTION: Notice of intent to prepare an Environmental Impact Statement.

SUMMARY: The Federal Transit Administration (FTA), in cooperation with the Metropolitan Transit Authority of Harris County (METRO), intends to prepare an Environmental Impact Statement (EIS) in accordance with the National Environmental Policy Act (NEPA), to evaluate transportation improvements in the Houston metropolitan area (Harris County).

The EIS will evaluate the following transit alternatives: a No Build Alternative, consisting of already planned improvements to the corridor, and a Build Alternative, consisting of a wide range of transit improvements. The type, location, and need for ancillary facilities, such as maintenance facilities, will also be considered for each alternative. Scoping will be accomplished with a series of public meetings, and through correspondence with interested persons, organizations, and Federal, State and local agencies.

Depending on the outcome of the scoping process and the analysis of a wide range of transit alternatives, a Locally Preferred Investment Strategy (LPIS) will be selected and evaluated in the EIS. The EIS will evaluate the potential impacts of the selected investment strategy (the Build Alternative) and a No Build Alternative.

The sequence of events for the planning and development for this project include the following major milestones:

• Scoping Process—early opportunity for public input to the study scope and project alternatives. Scoping will be accomplished with a series of public meetings, and through correspondence with interested persons, organizations, and Federal, State and local agencies.

• Planning Studies—evaluation of proposed improvement alternatives, early consideration of environmental factors, concluding with the selection of a LPIS.

• Conceptual Engineering and Draft Environmental Impact Statement (EIS)—conceptual definition of the alternatives to be evaluated including their physical features and potential impacts, consideration of mitigation measures, preparation and circulation of the Draft EIS, and public hearing(s).

• Preliminary Engineering and Final EIS—detailed definition of the proposed alternative's physical features, assessment of potential impacts, development of selected mitigation measures, responses to comments offered during the Draft EIS comment period, and preparation of the Final EIS.

DATES: Comment Due Date: Written comments on the scope of alternatives and impacts considered should be sent to the Metropolitan Transit Authority of Harris County by March 15, 2002. See ADDRESSES below.

Scoping Meetings: Public Scoping meetings for the Southeast-Universities-Hobby Corridor will be held on February 19th, February 21st and February 27th, 2002. See ADDRESSES below for meeting times and locations.

All of the scoping meetings will be held in wheelchair-accessible locations. Any person who requires language interpretation or special communication accommodations is encouraged to contact the project's public participation coordinator at 713-739-6049 at least 72 hours prior to the meeting. Every reasonable effort will be made to meet your needs. Scoping information material will be available at the meetings and may also be obtained in advance of the meetings by contacting the public participation coordination or by contacting METRO at the address or e-mail identified in ADDRESSES below. Oral and written comments may be given at the scoping meetings. A court reporter will record all comments.

ADDRESSES: Written comments should be sent to METRO Mobility 2025, Room 21034, PO Box 61429, Houston, Texas 77208-1429. E-mail: southeast-universities-hobby@ridemetro.org. Scoping meetings will be held at the following locations:

1. February 19, 2002, Jesse H. Jones Senior High School, 7414 St. Lo, Houston, Texas 77033, 5:00-8:00 p.m. Open House, 6:30 p.m. Presentation.

2. February 21, 2002, Texas Southern University, School of Technology Atrium, 3100 Cleburne Avenue, Houston, Texas 77004, 5:00-8:00 p.m. Open House, 6:30 p.m. Presentation.

3. February 27, 2002, Houston-Galveston Area Council, 3555 Timmons Lane—2nd Floor, Houston, Texas 77027, 3:00-5:00 p.m. Agency Scoping Meeting, Conference Room A, 5:00-7:00 p.m. Open House, Conference Room B.

FOR FURTHER INFORMATION CONTACT: Mr. Jesse Balleza, Community Planner, FTA, Region VI, 819 Taylor Street, Fort Worth, Texas 76102, Telephone (817) 978-0550.

SUPPLEMENTARY INFORMATION:

I. Scoping

FTA and METRO invite all interested individuals and organizations, and Federal, State, regional, and local agencies to participate in defining the alternatives to be evaluated and identifying social, economic, or environmental issues related to the alternatives. During scoping, comments should focus on identifying specific social, economic, or environmental impacts to be evaluated, and suggesting alternatives that may be less costly or have less adverse environmental impacts, but achieve similar objectives. Comments during scoping should focus on the issues and alternatives for analysis, and not on a preference for a particular alternative. Individual preference for a particular alternative should be communicated through the planning process or during the comment period for the Alternatives Analysis Report.

Prior to initiating the EIS, planning studies will identify a LPIS that includes transit improvements. Interested individuals, organizations, and Federal, State, and local agencies are invited to participate in refining the purpose, alternatives, schedule, and analysis approach, as well as participate in the active public involvement program throughout the planning process and project implementation. The public is invited to comment on corridor needs and alternatives to be addressed; modes and technologies to be evaluated; alignments and station-capital facility locations; the environmental, social, and economic impacts to be analyzed; and the evaluation approach to be used to select a LPIS. The scoping process will provide input to the process to be used for the evaluation of alternatives during the planning process and the early identification of environmental issues to be considered during the planning studies and in the EIS.

Scoping activities are being initiated at the outset of the planning studies, in advance of the EIS, to maximize the opportunity for public involvement in the consideration of alternatives and reaching decisions about the transportation investments that will be advanced into the EIS phase of project development.

II. Description of the Project Area and Need

Planning studies for the Southeast-Universities-Hobby Corridor will be initiated in a broadly defined area in Harris County, Texas. The planning area is defined to include part of downtown Houston, extending eastward and then to the southeast, generally bounded by IH 45 on the east, and SH 288 and Almeda Road on the west. The Southeast-Universities-Hobby Corridor includes the Third Ward, the convention center, Enron Field (home of the Houston Astros), the Texas Southern University (TSU) and University of Houston (UH) campuses, communities to the south, and Hobby Airport. The southern boundary is inside Beltway 8.

The corridor is significantly more densely developed than the City of Houston as a whole. Southeast Houston has a large transit dependent population, with lower average household income and car ownership and higher percentages of elderly and disabled persons than citywide. Transit (bus) ridership in the corridor is strong, but there are no high capacity transit facilities in the corridor. “Super-stops” have been proposed at the University of Houston and Texas Southern University.

New development and redevelopment is occurring along this corridor and is expected to generate further increases in demand for transit services. The universities are growing in enrollment. Hobby Airport is a significant employment center, as are TSU and UH. Outside this corridor, Downtown and the Texas Medical Center are the nearest major activity centers. There is a recognized demand linkage between the corridor and Houston's Midtown area and the Uptown-West Loop area to the west.

III. Alternatives

In accordance with NEPA, a public scoping process will be initiated to identify corridor needs and alternatives. The scoping process will provide the basis for the evaluation of alternatives as part of the planning studies, and the selection of a LPIS and implementation program. The planning studies will consider a variety of transit options in the corridor based on input received during the scoping process. It is expected that the LPIS will be a combination of one or more alternative options identified. Subsequent to the selection of the LPIS, the selected alternatives will be refined and documented in the EIS. At a minimum, the alternatives to be considered in the planning studies include:

• No Build Alternative;

• Light Rail Transit (LRT);

• Bus Rapid Transit;

• Commuter Rail along existing railroad facilities in the corridor; and

• HOV system improvements.

Additional reasonable Build Alternatives suggested during the scoping process, including those involving other modes, may be considered.

IV. Probable Effects and Potential Impacts for Analysis

FTA and METRO will evaluate all social, economic and environmental impacts of the alternatives analyzed in the EIS. Impacts may include: land use, zoning, and economic development; secondary development; cumulative impacts; land acquisition, displacements, and relocation of existing uses; historic, archaeological, and cultural resources; parklands and recreation areas; visual and aesthetic qualities; neighborhoods and communities; environmental justice; air quality; noise and vibration; hazardous materials; ecosystems; water resources; energy; construction impacts; safety and security; utilities; finance; and transportation impacts. The impacts will be evaluated both for the construction period and for the long-term period of operation of each alternative. Measures to mitigate adverse impacts will be identified.

V. FTA Procedures

In accordance with FTA policy, all federal laws, regulations and executive orders affecting project development, including but not limited to the regulations of the Council on Environmental Quality and FTA implementing NEPA (40 CFR parts 1500-1508 and 23 CFR part 771), the 1990 Clean Air Act Amendments, section 404 of the Clean Water Act, Executive Order 12898 regarding environmental justice, the National Historic Preservation Act, the Endangered Species Act, and section 4(f) of the Department of Transportation Act, will be addressed to the maximum extent practicable during the NEPA process.

Issued on: January 2, 2002.
Robert C. Patrick,
Regional Administrator, Federal Transit Administration, Region VI, Fort Worth, Texas.

[FR Doc. 02-558 Filed 1-8-02; 8:45 am]

BILLING CODE 4910-57-M